DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the Centers for Disease Control and Prevention (CDC) announces the following meeting of the aforementioned committee:

Time and Date: 8:30 a.m.-3:00 p.m. (EDT), October 24, 2013.

Place: CDC, Building 21, Rooms 1204 A/B, 1600 Clifton Road NE., Atlanta, Georgia 30333.

Status: Open to the public, limited only by the space and phone lines available. The meeting room accommodates approximately 50 people. The public is welcome to participate during the public comment period, tentatively scheduled from 2:45 p.m. to 2:50 p.m. This meeting is also available by teleconference. Please dial (877) 930-8819 and enter code 1579739.

Web links:

Windows Connection-2: http://wm.onlinevideoservice.com/CDC2

Flash Connection-4 (For Safari and Google Chrome Users): http://www.onlinevideoservice.com/clients/CDC/?mount=CDC4

If you are unable to connect using the link, copy and paste the link into your web browser. Captions are only available on the Windows Media links (Connections 2). Viewer's report is given the next day.

Number for Technical Support: (404) 639-3737

The deadline for notification of attendance is October 17, 2013. To register for this meeting, please send an email to ACDirector@cdc.gov.

Purpose: The committee will provide advice to the CDC Director on strategic and other broad issues facing CDC.

Matters To Be Discussed: The Advisory Committee to the Director will receive updates from the State, Tribal, Local and Territorial Subcommittee; the Health Disparities Subcommittee, the Global Workgroup, and the Public Health—Health Care Collaboration Workgroup; as well as an update from the CDC Director.

Agenda items are subject to change as priorities dictate. Contact Person For More Information: Carmen Villar, MSW, Designated Federal Officer, Advisory Committee to the Director, CDC, 1600 Clifton Road NE., M/S D-14, Atlanta, Georgia 30333, Telephone: (404) 639-7000, Email: GHickman@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention .

[FR Doc. 2013-24060 Filed 10-1-13; 8:45 am]

BILLING CODE 4163-18-P